DEPARTMENT OF ENERGY

Federal Energy Regulatory Commission

[Docket No. RP01-566-000]

Texas Gas Transmission Corporation; Notice of Tariff Filing and Annual Charge Adjustment

September 7, 2001.

Take notice that on August 31, 2001, Texas Gas Transmission Corporation (Texas Gas) tendered for filing as part of its FERC Gas Tariff, First Revised Volume No. 1, the following revised tariff sheets to become effective October 1, 2001:

Thirty-Eighth Revised Sheet No. 10

Twenty-First Revised Sheet No. 10A

Fourth Revised Sheet No. 10A.01

Twenty-Fourth Revised Sheet No. 11A

Twenty-Second Revised Sheet No. 11B

Thirty-Sixth Revised Sheet No. 12

Fourth Revised Sheet No. 12.01

Sixteenth Revised Sheet No. 13

The revised tariff sheets are being filed pursuant to Section 23 of the General Terms and Conditions of Texas Gas's FERC Gas Tariff, First Revised Volume No. 1, which affords Texas Gas the right to recover the costs billed to Texas Gas by the Federal Energy Regulatory Commission via the FERC ACA Unit Charge method. That unit charge, as determined by the Commission, is $.0021/MMBtu as set forth on Texas Gas's Annual Charges Bill for fiscal year 2001, to be effective October 1, 2001.

Texas Gas state that copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23118 Filed 9-14-01; 8:45 am]

BILLING CODE 6717-01-P